DEPARTMENT OF ENERGY

Federal Energy Regulatory Commission

[Project No. 2194-020]

FPL Energy Maine Hydro LLC; Notice Soliciting Scoping Comments

February 1, 2005.

Take notice that the following hydroelectric application has been filed with the Commission and is available for public inspection.

a. Type of Application: New major license.

b. Project No.: P-2194-020.

c. Date Filed: June 30, 2003.

d. Applicant: FPL Energy Maine Hydro LLC.

e. Name of Project: Bar Mills Hydroelectric Project.

f. Location: On the Saco River in the towns of Buxton and Hollis, York County, Maine. The project does not affect any Federal lands.

g. Filed Pursuant to: Federal Power Act, 16 U.S.C. 791 (a)—825(r).

h. Applicant Contact: Frank Dunlap, FPL Energy Maine Hydro LLC, 160 Capitol Street, Augusta, ME 04330, (207) 623-8417.

i. FERC Contact: Jack Hannula, (202) 502-8917, john.hannula@ferc.gov.

j. Deadline for Filing Scoping Comments: March 4, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The project is located on the Saco River in the towns of Buxton and Hollis, York County, Maine. The project lies about 19 river miles upstream from the river mouth at Camp Ellis, Maine. The Bar Mills Project consists of two generating units with an installed capacity of 4.5 megawatts (MW), a hydraulic capacity of 3,120 cubic feet per second (cfs), and generates about 18,850 megawatt-hours (MWh) of energy annually. The project operates essentially in a cycling mode with moderate fluctuations of the impoundment up to 2 feet of the normal full pond elevation. The project does not occupy any federal lands.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribenow.htm to be notified via email of new filings and issuances related to this or other pending projects. For assistance, contact FERC Online Support.

o. Scoping Process. The Commission staff intends to prepare an Environmental Assessment (EA) for the Bar Mills Hydroelectric Project in accordance with the National Environmental Policy Act. The EA will consider both site-specific and cumulative environmental impacts and reasonable alternatives to the proposed action.

Commission staff does not propose to conduct any on-site scoping meetings at this time. Instead, we will solicit comments, recommendations, information, and alternatives in the Scoping Document (SD).

Copies of the SD outlining the subject areas to be addressed in the EA were distributed to the parties on the Commission's mailing list. Copies of the SD may be viewed on the Web at http://www.ferc.gov using the “eLibrary” link. Enter the docket number excluding the last three digits in the docket number field to access the document. For assistance, call 1-866-208-3676 or for TTY, (202) 502-8659.

Magalie R. Salas,
Secretary.

[FR Doc. E5-504 Filed 2-7-05; 8:45 am]

BILLING CODE 6717-01-P